NATIONAL AERONAUTICS AND SPACE ADMINISTRATION

[Notice: 14-041]

National Space-Based Positioning, Navigation, and Timing Advisory Board; Meeting

AGENCY: National Aeronautics and Space Administration (NASA).

ACTION: Notice of meeting.

SUMMARY: In accordance with the Federal Advisory Committee Act, Public Law 92-463, as amended, and the President's 2004 U.S. Space-Based Positioning, Navigation, and Timing (PNT) Policy, the National Aeronautics and Space Administration (NASA) announces a meeting of the PNT Advisory Board.

DATES: Tuesday, June 3, 2014, 8:30 a.m. to 4:30 p.m.; and Wednesday, June 4, 2014, 9 a.m. to 12 p.m., Local Time.

ADDRESSES: The Omni Shoreham Hotel, 2500 Calvert Street NW., Washington, DC 20008.

FOR FURTHER INFORMATION CONTACT: Mr. James J. Miller, Human Exploration and Operations Mission Directorate, NASA Headquarters, Washington, DC 20546, (202) 358-4417, fax (202) 358-2830, or jj.miller@nasa.gov.

SUPPLEMENTARY INFORMATION: The meeting will be open to the public up to the seating capacity of the room. Visitors will be requested to sign a visitor's register.

The agenda for the meeting includes the following topics:

• Update on PNT Policy and Global Positioning System (GPS) modernization.

• Explore opportunities for enhancing the interoperability of GPS with other emerging international Global Navigation Satellite Systems (GNSS).

• Examine emerging trends and requirements for PNT services in U.S. and international arenas through PNT Board technical assessments.

• Examine methods in which to Protect, Toughen, and Augment (PTA) access to GPS/GNSS services in key domains for multiple user sectors.

• Prioritize current and planned GPS capabilities and services while assessing future PNT architecture alternatives with a focus on affordability.

• Assess economic impacts of GPS on the United States and in select international regions, with a consideration towards effects of potential PNT service disruptions if radio spectrum interference is introduced.

It is imperative that the meeting be held on these dates to accommodate the scheduling priorities of the key participants.

Patricia D. Rausch,
Advisory Committee Management Officer, National Aeronautics and Space Administration.

[FR Doc. 2014-10046 Filed 5-1-14; 8:45 am]

BILLING CODE 7510-13-P